DEPARTMENT OF HOMELAND SECURITY

Coast Guard

33 CFR Part 165

[Docket Number USCG-2025-0365]

RIN 1625-AA00

Safety Zone; Charles River, Boston, MA.

AGENCY: Coast Guard, DHS.

ACTION: Notice of proposed rulemaking.

SUMMARY: The Coast Guard is proposing to establish a safety zone on the navigable waters of the Charles River, in Boston, Massachusetts. This safety zone would protect personnel, vessels, and the marine environment from potential hazards associated with a bridge replacement project that is expected to last approximately eight years. During periods when it is subject to enforcement, this rule would prohibit unauthorized vessels and individuals from entering the safety zone without permission from Sector Boston's Captain of the Port, or a designated representative.

DATES: Comments and related material must be received by the Coast Guard on or before October 2, 2025.

ADDRESSES: You may submit comments identified by docket number USCG-2025-0365 using the Federal Docket Management System at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call, or email Mr. Timothy Chase, Sector Boston Waterways Management Division, U.S. Coast Guard; telephone 617-447-1620, email Timothy.W.Chase@uscg.mil.

SUPPLEMENTARY INFORMATION:

I. Table of Abbreviations

BNM Broadcast Notice to Mariners

CFR Code of Federal Regulations

COTP Captain of the Port, Sector Boston

DHS Department of Homeland Security

FR Federal Register

FTA Federal Transit Administration

LNM Local Notice to Mariners

MA Massachusetts

MBTA Massachusetts Bay Transit Authority

NPRM Notice of proposed rulemaking

OMB Office of Management and Budget

§ Section

U.S.C. United States Code

II. Background, Purpose, and Legal Basis

The Massachusetts Bay Transportation Authority (MBTA) will be replacing the North Station Draw One Bridge over the Charles River in Boston, MA. As described on an MBTA North Station Drawbridge Replacement website,¹ the project includes the replacement of a control tower, the extension of the bridge platform to include four to six additional river-crossing bridge tracks, the connection of tracks 11 and 12 to the existing network, and upgrades to track, signal, communications, and infrastructure. The Federal Transit Administration (FTA) and the MBTA have prepared an Environmental Assessment (EA) under the National Environmental Policy Act and, on January 16, 2025, the FTA issued a FONSI (Finding of No Significant Impact) for the project. The EA and FONSI are available at the MBTA website provided in footnote 1 of this Notice of Proposed Rulemaking (NPRM).

¹ https://www.mbta.com/projects/north-station-drawbridge-replacement.

On April 22, 2025, the MBTA held a meeting with the Coast Guard to present its construction plan for the demolition and replacement of the superstructure and substructures of the MBTA North Station Draw One Railroad Bridge spans and approach spans over the Charles River, Boston, Massachusetts (MA). North Station is a major commuter and intercity rail terminal in Boston, MA, which is served by four MBTA commuter lines and the Amtrak Downeaster. Due to the complex construction staging required to maintain service levels at North Station, the MBTA anticipates that construction and demolition activities for the project, which may begin as early as January 1, 2026, may take up to eight years to complete. Construction activities may occur up to seven days a week, with primary work shifts scheduled during the daytime from 7 a.m. to 3 p.m. Nighttime work may also take place during certain phases, between 3 p.m. and 11 p.m., and 11 p.m. to 7 a.m.

In-river construction and demolition will involve removing eleven caissons that previously supported the former Draw One Bridge piers. Two cofferdams may be installed to facilitate this work. One cofferdam, approximately 98 feet by 58 feet—would encapsulate eight caissons on the north side of the channel, while the second, approximately 104 feet by 27 feet, would surround the “main deck beam pier” and three associated caissons on the south side. Cofferdam installation would be conducted from a barge, prior to the construction of temporary work trestles. Silt curtains or similar sediment control measures would be used around the cofferdams during their removal, as needed.

Temporary work trestles, potentially in place for up to six years, would be constructed following cofferdam installation. Construction work would begin concurrently at multiple locations, starting with pile driving for the trestles using barge-mounted equipment. Drilled shaft construction for the lift span piers may also proceed simultaneously, using similar barge-based methods. Multiple barges are anticipated for various construction functions, including supporting cranes, storing materials, and facilitating material delivery. Dredging is also expected within the project area.

Demolition of the MBTA North Station Draw One Railroad Bridge will likely involve cutting the steel trusses into sections, which would then be lifted by crane and floated out by barge. Approximately 1,380 timber piles, along with the majority of construction and demolition debris, will also be removed by barge.

The Coast Guard has coordinated with the MBTA to assess whether the project can proceed without requiring channel closures and to understand the potential impact on the project timeline. Fortunately, most construction activities will not necessitate enforcement of the safety zone or waterway closures. Certain critical tasks that must be performed within the channel will, however, require enforcement of the safety zone, effectively closing the waterway during those periods.

The extremely complex marine construction and demolition activities described above present many hazardous conditions, including pile driving operations, heavy lift operations, overhead cutting operations, potential falling debris, increased construction vessel traffic, and stationary vessels and barges operating in close proximity to the bridge and to each other. These construction and demolition activities are expected to impact navigation on the Charles River within a 100-yard radius of the center point of the MBTA North Station Draw One Railroad Bridge.

Based on these circumstances, the COTP, Sector Boston has determined that establishment of a safety zone through rulemaking is warranted to ensure the safety of life, property, and the environment on the Charles River within a 100-yard radius of the center point of the MBTA North Station Draw One Railroad Bridge during construction and demolition operations.

The Coast Guard is proposing this rule under the authority provided in 46 U.S.C. 70034.

III. Discussion of Proposed Rule

The COTP, Sector Boston proposes to establish a safety zone on the Charles River, in Boston, MA, within 100-yards of the center point of the MBTA North Station Draw One Railroad Bridge, (approximate position 42°22′08.5″ N 71°03′55.0″ W expressed in Degrees (°) Minutes (′) Seconds (″) (DMS) based on North American Datum 1983 (NAD 83)), effective from January 1, 2026, through the completion of the project. The project is expected to take up to eight years to complete. We will remove the regulation when the project is completed, and the safety zone is no longer needed.

BILLING CODE 9110-04-P

Figure 1: Small Scale Chartlet Showing the Position of the Proposed Safety Zone

Figure 2: Large Scale Chartlet Showing the Position of the Proposed Safety Zone With a 100-Yard Safety Zone

Figure 3: Large Scale Ariel Picture of the MBTA North Station Draw One Railroad Bridge

BILLING CODE 9110-04-C

This proposed rule will give the COTP, Sector Boston the authority to prohibit vessel traffic, when necessary, within 100-yards of the center point of the MBTA North Station Draw One Railroad Bridge for the safety of vessels and workers during construction and demolition work. The COTP, Sector Boston will provide notice of each enforcement period via the LNM and issue a Broadcast Notice to Mariners (BNM) via marine channel 16 (VHF-FM) as soon as practicable in response to an emergency or hazardous condition.

When subject to enforcement, no unauthorized vessel or person would be permitted to enter the safety zone without obtaining permission from the COTP, Sector Boston or a designated representative. Requests for entry into the safety zone would be considered and reviewed on a case-by-case basis. Persons or vessels seeking to enter the safety zone must request authorization from the COTP, Sector Boston or designated representative via VHF-FM channel 16 or by phone at (856) 416-3015 (U.S. Coast Guard Sector Boston Command Center). If permission is granted to enter this safety zone, persons and vessels must transit at their slowest safe speed to minimize wake and comply with all lawful directions issued by the COTP, Sector Boston or the designated representative.

Enforcement of the safety zone resulting in a complete waterway closure will be minimized to that period absolutely necessary and made with advanced notice through the LNM, when possible. While marine traffic will generally be maintained with partial channel closures throughout most of the construction period, full channel closures will be required for limited durations. During these full channel closures, there will not be enough space for mariners to transit through the safety zone between the construction vessels and the current bridge piers.

The complete regulatory text we are proposing appears at the end of this document.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, this proposed rule would not have a significant economic impact on any vessel owner or operator for the following reasons.

The Coast Guard anticipates that it will only need to fully close the waterway for eight, one-week periods over the course of the eight years, during periods of major construction or demolition that create hazardous conditions necessitating a complete waterway closure. These closures will be limited to the minimum duration necessary to ensure safety. The Coast Guard anticipates that full waterway closures will impact commercial ferries, tugs, barges, and recreation vessels. Some of these affected owners or operators may be small entities. However, the safety zone is not expected to have a significant economic impact on a substantial number of these entities. Moreover, affected entities may request permission from the COTP to transit through the safety zone during closures.

Other than these eight, one-week periods and unexpected situations, the Coast Guard only expects to partially close the waterway during the eight-years. The safety zone will encompass a small, designated portion of the navigable waters of the Charles River in Boston, MA—specifically, within 100 yards of the center point of the MBTA North Station Draw One Railroad Bridge. The Coast Guard will notify the public of enforcement periods through LNM and BNM via VHF-FM Channel 16.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule establishes a safety zone on the navigable waters of the Charles River, within a 100-yard radius of the center point of the MBTA North Station Draw One Railroad Bridge in Boston, MA, to support a bridge replacement project and protect life, property, and the marine environment. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at https://www.regulations.gov. To do so, go to https://www.regulations.gov, type USCG-2025-0365 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.115 to read as follows:

§ 165.115 Safety Zone; Charles River, Boston, MA.

(a) Regulated area. The following area is a safety zone: All navigable waters from surface to bottom of the Charles River, Boston, MA, within 100-yards of the center point of the MBTA North Station Draw One Railroad Bridge, (approximate position 42°22′08.5″ N 71°03′55.0″ W expressed in Degrees (°) Minutes (′) Seconds (″) (DMS) based on North American Datum 1983 (NAD 83)).

(b) Definitions. As used in this section, designated representative means a Coast Guard Patrol Commander, including a Coast Guard coxswain, petty officer, or other officer operating a Coast Guard vessel and a Federal, State, and local officer designated by or assisting the Coast Guard Northeast District Commander in the enforcement of the safety zones. Local officer means any officer, agent, or employee of a unit of local government authorized by law or by a local government agency to engage in or supervise the prevention, detection, investigation, or prosecution of any violation of criminal law.

(c) Regulations. When enforced, no vessel may enter or remain in this safety zone except for the following:

(1) MBTA North Station Draw One Railroad Bridge replacement project contractor vessels and barges.

(2) A vessel authorized by the Captain of the Port (COTP), Sector Boston or a designated representative.

(d) Request for Permission. Individuals or vessels seeking to enter the safety zone must obtain authorization from the COTP, Sector Boston or an authorized representative. If granted permission, transit through the safety zone must be conducted at the slowest safe speed to minimize wake. Additionally, all lawful directions issued by the COTP, Sector Boston or their representative, either via VHF-FM Channel 16 or by phone at (856) 416-3015 (U.S. Coast Guard Sector Boston Command Center), must be strictly followed.

(e) Effective and enforcement periods. This rule will be effective on 12:01 a.m. on January 1, 2026. However, enforcement will only occur during periods of active construction, demolition, or other activities that pose a navigation hazard, as determined by the COTP, Sector Boston. The COTP, Sector Boston will make notification of the exact dates and times in advance of each enforcement period for the safety zone in paragraph (a) of this section to the local maritime community through the Local Notice to Mariners (LNM) and will issue a Broadcast Notice to Mariners (BNM) via marine channel 16 (VHF-FM) as soon as practicable in response to an emergency. Upon completion of the project, enforcement of the safety zone will be suspended, with notification provided through the LNM. The Coast Guard Northeast District Local Notice to Mariners can be found at: http://www.navcen.uscg.gov.

Dated: August 27, 2025.
J.C. Frederick,
Captain, U.S. Coast Guard, Captain of the Port, Sector Boston.

[FR Doc. 2025-16740 Filed 8-29-25; 8:45 am]

BILLING CODE 9110-04-P